DEPARTMENT OF HEALTH AND HUMAN SERVICES

Health Care Financing Administration

[Document Identifier: HCFA-R-0245]

Emergency Clearance: Public Information Collection Requirements Submitted to the Office of Management and Budget (OMB)

AGENCY: Health Care Financing Administration.

In compliance with the requirement of section 3506(c)(2)(A) of the Paperwork Reduction Act of 1995, the Health Care Financing Administration (HCFA), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

We are, however, requesting an emergency review of the information collections referenced below. In compliance with the requirement of section 3506(c)(2)(A) of the Paperwork Reduction Act of 1995, we have submitted to the Office of Management and Budget (OMB) the following requirements for emergency review. We are requesting an emergency review because the collection of this information is needed before the expiration of the normal time limits under OMB's regulations at 5 CFR, part 1320. This is necessary to ensure compliance with section 1895 of the Social Security Act. We cannot reasonably comply with the normal clearance procedures because section 1895 of the Social Security Act requires us to begin paying home health agencies under a prospective payment system for cost reporting periods beginning October 1, 2000. In order to be able to do that, we must be able to revise current OASIS schedules and make them available to home health providers, allowing sufficient time for training. Moreover, current HAVEN software, used to transmit OASIS data, and new grouper software used to assign a case mix will need to be revised/developed, tested, and produced before being made available to providers and vendors. If emergency clearance for these requested changes is obtained, current production schedules will allow for a summer release of the revised HAVEN software and the new grouper software and would allow for adequate staff training of the product and its appropriate use. It is in the public interest for the HHAs to be able to be ready to collect data timely.

HCFA is requesting OMB review and approval of this collection by April 21, 2000, with a 180-day approval period. Written comments and recommendations will be accepted from the public if received by the individuals designated below by April 17, 2000. During this 180-day period, we will publish a separate Federal Register notice announcing the initiation of an extensive 60-day agency review and public comment period on these requirements. We will submit the requirements for OMB review and an extension of this emergency approval.

Type of Information Request: Revision of a currently approved collection; Title of Information Collection: Collection of OASIS Data for Prospective Payment System Purposes and for Masking Data; HCFA Form Number: HCFA-R-0245 (OMB approval #: 0938-0760); Use: We are requesting emergency clearance of our proposal to modify the currently approved OASIS forms HCFA-R-245D for purposes of case mix adjustment of payment rates under home health PPS and to modify the OASIS data assessment schedule to allow for the preservation of masking of personally identifiable information for the non-Medicare/non-Medicaid individuals; Frequency: On occasion; Affected Public: Businesses or other for-profit, Not-for-profit institutions, Federal Government; State, Local, or Tribal Government; Number of Respondents: 8,200; Total Annual Responses: 8,200; Total Annual Burden Hours: 967,600.

We have submitted a copy of this notice to OMB for its review of these information collections. A notice will be published in the Federal Register when approval is obtained.

To obtain copies of the supporting statement and any related forms for the proposed paperwork collections referenced above, access HCFA's Web Site address at http://www.hcfa.gov/reg/prdact95.htm, or E-mail your request, including your address, phone number, OMB number, and HCFA document identifier, to Paperwork@hcfa.gov, or call the Reports Clearance Office on (410) 786-1326.

Interested persons are invited to send comments regarding the burden or any other aspect of these collections of information requirements. However, as noted above, comments on these information collection and recordkeeping requirements must be mailed and/or faxed to the designees referenced below, by April 17, 2000.

Health Care Financing Administration, Office of Information Services, Security and Standards Group, Division of HCFA Enterprise Standards, Room N2-14-26. 7500 Security Boulevard, Baltimore, MD 21244-1850. Fax Number: (410) 786-0262, Attn: Julie Brown HCFA-R-245

and,

Office of Information and Regulatory Affairs, Office of Management and Budget, Room 10235, New Executive Office Building, Washington, DC 20503, Fax Number: (202) 395-6974 or (202) 395-5167, Attn: Allison Herron Eydt, HCFA Desk Officer.

Dated: April 4, 2000.
John P. Burke III,
HCFA Reports Clearance Officer, HCFA, Office of Information Services, Security and Standards Group, Division of HCFA Enterprise Standards.

[FR Doc. 00-9119 Filed 4-10-00; 9:38 am]

BILLING CODE 4120-03-M